DEPARTMENT OF THE INTERIOR

Bureau of Indian Affairs

New Agency Information Collection for Solicitation of Nominations for the Advisory Board for Exceptional Children; Request for Comments

AGENCIES: Bureau of Indian Affairs, Interior.

ACTION: Notice of request for comments.

SUMMARY: In compliance with the Paperwork Reduction Act of 1995, the Bureau of Indian Education (BIE) is seeking comments on a proposed collection of information that will allow the BIE to obtain information from individuals on their qualifications to serve on the Advisory Board for Exceptional Children (Advisory Board) under the Individuals with Disabilities Education Improvement Act. The BIE is seeking approval from the Office of Management and Budget (OMB) to collect this information. This notice is not requesting nominations; it is requesting comment on the information the BIE may collect in the future for nominations by a separate Federal Register notice.

DATES: Interested persons are invited to submit comments on or before April 19, 2011.

ADDRESSES: You may submit comments on the information collection to Sue Bement, Education Specialist, Bureau of Indian Education, Albuquerque Service Center, Division of Performance and Accountability, P.O. Box 1088, Albuquerque, New Mexico 87103-1088.

FOR FURTHER INFORMATION CONTACT: Sue Bement, Education Specialist, telephone (505) 563-5274.

SUPPLEMENTARY INFORMATION:

I. Abstract

The BIE seeking approval for an information collection that would allow it to collect information regarding individuals' qualifications to serve on the Federal advisory committee known as the Advisory Board for Exceptional Children. This information collection would require persons interested in being nominated to serve on the Advisory Board to provide information regarding their qualifications. A Membership Nomination Form would also be part of the information collection.

The Individuals with Disabilities Education Improvement Act (IDEA) of 2004, (20 U.S.C. 1400 et seq.) requires the BIE to establish an Advisory Board on Exceptional Education. See 20 U.S.C 1411(h)(6). Advisory Board members shall serve staggered terms of 2 years or 3 years from the date of their appointment. This Advisory Board is currently in operation; this information collection will allow the BIE to better manage the nomination process for future appointments to the Advisory Board.

II. Request for Comments

The BIE requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number.

It is our policy to make all comments available to the public for review at the location listed in the ADDRESSES section during the hours of 9 a.m.—5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-NEW.

Title: Solicitation of Nominations for the Advisory Board for Exceptional Children.

Brief Description of Collection: Submission of this information allows the BIE to review the qualifications of individuals seeking nomination to the Advisory Board for Exceptional Children under the Individuals with Disabilities Education Improvement Act. The information collection includes a Membership Nomination Form and requests information on qualifications, experience, and expertise on the education of Indian children with disabilities. Response is required to obtain a benefit.

Type of Review: Proposed information collection.

Respondents: Individuals.

Number of Respondents: 30 per year, on average.

Total Number of Responses: 30 per year, on average.

Frequency of Response: Once.

Estimated Time per Response: 1 hour.

Estimated Total Annual Burden: 30 hours.

Dated: February 9, 2011.
Alvin Foster,
Acting Chief Information Officer—Indian Affairs.

[FR Doc. 2011-3742 Filed 2-17-11; 8:45 am]

BILLING CODE 4310-4J-P